DEPARTMENT OF HEALTH AND HUMAN SERVICES

Office of the National Coordinator for Health Information Technology, American Health Information Community Population Health and Clinical Care Connections Workgroup Meeting

ACTION: Announcement of meeting.

SUMMARY: This notice announces the 14th meeting of the American Health Information Community Population Care and Clinical Care Connections Workgroup [formerly Biosurveillance Workgroup] in accordance with the Federal Advisory Committee Act (Pub. L. 92-463, 5 U.S.C., App.)

DATES: March 2, 2007, from 1 p.m. to 4 p.m.

ADDRESSES: Mary C. Switzer Building (330 C Street, SW, Washington, DC 20201), Conference Room 4090 (please bring photo ID for entry to a Federal building)

FOR FURTHER INFORMATION CONTACT: http://www.hhs.gov/healthit/ahic/population/

SUPPLEMENTARY INFORMATION: The Workgroup will discuss the priority area of Response Management.

The meeting will be available via internet access. For additional information, go to http://www.hhs.gov/healthit/ahic/population/pop_instructhtml.

Dated: February 7, 2007.
Judith Sparrow,
Director, American Health Information Community, Office of Programs and Coordination, Office of the National Coordinator for Health Information Technology.

[FR Doc. 07-707 Filed 2-14-06; 8:45 am]

BILLING CODE 4150-24-M